DEPARTMENT OF STATE

[Public Notice 4936]

Foreign Terrorists and Terrorist Organizations; Designation: Jam'at al Tawhid Wa'al-Jihad et al.

In the Matter of the Amended Designation of Jam'at al Tawhid wa'al-Jihad, also known as The Monotheism and Jihad Group, also known as the al-Zarqawi Network, also known as al-Tawhid, also known as Tanzim Qa'idat al-Jihad fi Bilad al-Rafidayn, also known as The Organization of al-Jihad's Base in Iraq, also known as The Organization of al-Jihad's Base of Operations in Iraq, also known as al-Qaida of Jihad in Iraq, also known as al-Qaida in Iraq, also known as al-Qaida in Mesopotamia, also known as al-Qaida in the Land of the Two Rivers, also known as al-Qaida of the Jihad in the Land of the Two Rivers, also known as al-Qaida of Jihad Organization in the Land of the Two Rivers, also known as al-Qaida Group of Jihad in Iraq, also known as al-Qaida Group of Jihad in the Land of the Two Rivers, also known as The Organization of Jihad's Base in the Country of the Two Rivers, also known as The Organization Base of Jihad/Country of the Two Rivers, also known as The Organization of al-Jihad's Base in the Land of the Two Rivers, also known as The Organization Base of Jihad/Mesopotamia, also known as The Organization of al-Jihad's Base of Operations in the Land of the Two Rivers, also known as Tanzeem qa'idat al Jihad/Bilad al Raafidaini, as a Foreign Terrorist Organization pursuant to Section 219 of the Immigration and Nationality Act.

Based upon a review of the administrative record assembled in this matter, and in consultation with the Attorney General and the Secretary of the Treasury, the Deputy Secretary of State has concluded that there is a sufficient factual basis to find that Jam'at al Tawhid wa'al-Jihad, also known as the Zarqawi Network and other aliases, has changed its name to Tanzim Qa'idat al-Jihad fi Bilad al-Rafidayn, and that the relevant circumstances in section 219(a)(1) of the Immigration and Nationality Act, as amended (8 U.S.C. 1189(a)(1)) still exist with respect to that organization.

Therefore, effective upon the date of publication in the Federal Register, the Deputy Secretary of State hereby amends the 2004 designation of that organization as a foreign terrorist organization, pursuant to § 219(a)(4)(B) of the INA (8 U.S.C. 1189(a)(4)(B)), to include the following new names:

Tanzim Qa'idat al-Jihad fi Bilad al-Rafidayn,

The Organization of al-Jihad's Base in Iraq,

The Organization of al-Jihad's Base of Operations in Iraq,

al-Qaida of Jihad in Iraq, al-Qaida in Iraq,

al-Qaida in Mesopotamia,

al-Qaida in the Land of the Two Rivers,

al-Qaida of the Jihad in the Land of the Two Rivers,

al-Qaida of Jihad Organization in the Land of the Two Rivers,

al-Qaida Group of Jihad in Iraq,

al-Qaida Group of Jihad in the Land of the Two Rivers,

The Organization of Jihad's Base in the Country of the Two Rivers,

The Organization Base of Jihad/Country of the Two Rivers,

The Organization of al-Jihad's Base in the Land of the Two Rivers,

The Organization Base of Jihad/Mesopotamia,

The Organization of al-Jihad's Base of Operations in the Land of the Two Rivers,

Tanzeem qa'idat al Jihad/Bilad al Raafidaini.

Dated: December 15, 2004.
William P. Pope,
Acting Coordinator for Counterterrorism Department of State.

[FR Doc. 04-27799 Filed 12-16-04; 5:00 pm]

BILLING CODE 4710-10-P